DEPARTMENT OF DEFENSE

Office of the Secretary

Defense Science Board; Notice of Federal Advisory Committee Meeting

AGENCY: Under Secretary of Defense for Research and Engineering, Defense Science Board, Department of Defense.

ACTION: Notice of federal advisory committee meeting.

SUMMARY: The Department of Defense (DoD) is publishing this notice to announce that the following Federal Advisory Committee meeting of the Defense Science Board (DSB) will take place.

DATES: Monday, August 6, 2018 from 8:30 a.m. to 5 p.m.; Tuesday, August 7, 2018 from 8:30 a.m. to 5 p.m.; Wednesday, August 8, 2018 from 8:30 a.m. to 5 p.m.; Thursday, August 9, 2018 from 8:30 a.m. to 5 p.m.; Friday, August 10, 2018 from 9:00 a.m. to 12 p.m.

ADDRESSES: The Arnold and Mabel Beckman Center, 100 Academy Way, Irvine, CA 92617.

FOR FURTHER INFORMATION CONTACT: Defense Science Board Designated Federal Officer (DFO) Lt Col Milo Hyde, U. S. Air Force (Voice), (703) 571-0081 (Facsimile), milo.w.hyde2.mil@mail.mil (Email). Mailing address is Defense Science Board, 3140 Defense Pentagon, Room 3B888A, Washington, DC 20301-3140. Website: http://www.acq.osd.mil/dsb/. The most up-to-date changes to the meeting agenda can be found on the website.

SUPPLEMENTARY INFORMATION: Due to circumstances beyond the control of the Department of Defense (DoD) and the Designated Federal Officer, the Defense Science Board was unable to provide public notification required by 41 CFR 102-3.150(a) concerning the meeting from August 7 through August 10, 2018, of the Defense Science Board. Accordingly, the Advisory Committee Management Officer for the Department of Defense, pursuant to 41 CFR 102-3.150(b), waives the 15-calendar day notification requirement. This meeting is being held under the provisions of the Federal Advisory Committee Act (FACA) (5 U.S.C., Appendix), the Government in the Sunshine Act (5 U.S.C. 552b), and 41 CFR 102-3.140 and 102-3.150.

Purpose of the Meeting: The mission of the DSB is to provide independent advice and technical enterprise. The objective of the meeting is to obtain, review, and evaluate classified information related to the DSB's mission. The meeting will focus on the DSB's 2018 Summer Study on Strategic Surprise tasking, to address potential technical gaps in Department of Defense capabilities that may affect subsequent decisions and actions of U.S. commanders and warfighters in the next decade.

Agenda: The DSB meeting will begin on Monday, August 6, 2018 at 8:30 a.m. with opening remarks from Lt Col Milo Hyde, DFO, Dr. Craig Fields, DSB Chairman and Dr. Eric Evans, Vice Chairman. Following opening remarks, DSB members will hold a classified discussion to address potential technical gaps in Department of Defense capabilities that may affect subsequent decisions and actions of U.S. commanders and warfighters in the next decade. After break, DSB members will continue their classified discussion on the same topics. The meeting will adjourn at 5:00 p.m. On the second day of the meeting, Tuesday, August 7, 2018, the day will begin at 8:30 a.m. with classified panel breakouts to address potential technical gaps in Department of Defense capabilities that may affect subsequent decisions and actions of U.S. commanders and warfighters in the next decade. After break, the classified panel breakouts will continue. The meeting will adjourn at 5:00 p.m. On the third day of the meeting, Wednesday, August 8, 2018, the day will begin at 8:30 a.m. with classified panel breakouts to address potential technical gaps in Department of Defense capabilities that may affect subsequent decisions and actions of U.S. commanders and warfighters in the next decade. After break, the classified panel breakouts will continue. Following panel breakouts, DSB members will meet as a whole to deliberate and vote upon its advice and recommendations. The meeting will adjourn at 5:00 p.m. On the fourth day of the meeting, Thursday, August 9, 2018, the day will begin at 8:30 a.m. with classified panel breakouts to address potential technical gaps in Department of Defense capabilities that may affect subsequent decisions and actions of U.S. commanders and warfighters in the next decade. After break, the classified panel breakouts will continue. The meeting will adjourn at 5:00 p.m. On the fifth day of the meeting, Friday, August 10, 2018, the day will begin at 9:00 a.m. with a classified briefing to invited senior DoD leaders to provide the DSB's advice and recommendations on potential technical gaps in Department of Defense capabilities that may affect subsequent decisions and actions of U.S. commanders and warfighters in the next decade. The meeting will adjourn at 12:00 p.m.

Meeting Accessibility: In accordance with section 10(d) of the FACA and title 41 CFR 102-3.155, the DoD has determined that the DSB meeting will be closed to the public. Specifically, the Under Secretary of Defense for Research and Engineering, in consultation with the DoD Office of General Counsel, has determined in writing that the meeting will be closed to the public because it will consider matters covered by title 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense for Research and Engineering.

Written Statements: In accordance with section 10(a)(3)of the FACA and title 41 CFR 102-3.105(j) and 102-3.140, interested persons may submit a written statement for consideration by the DSB at any time regarding its mission or in response to the stated agenda of a planned meeting. Individuals submitting a written statement must submit their statement to the DSB DFO provided above at any point; however, if a written statement is not received at least three calendar days prior to the meeting, which is the subject of this notice, then it may not be provided to or considered by the DSB until a later date.

Dated: July 31, 2018.
Shelly E. Finke,
Alternate OSD Federal Register, Liaison Officer, Department of Defense.

[FR Doc. 2018-16676 Filed 8-2-18; 8:45 am]

BILLING CODE 5001-06-P